DEPARTMENT OF ENERGY

Federal Energy Regulatory Commission

Combined Notice of Filings #1

Take notice that the Commission received the following electric corporate filings:

Docket Numbers: EC22-117-000.

Applicants: Salem Harbor Power Development LP.

Description: Application for Authorization Under Section 203 of the Federal Power Act of Salem Harbor Power Development LP.

Filed Date: 9/2/22.

Accession Number: 20220902-5148.

Comment Date: 5 p.m. ET 9/23/22.

Take notice that the Commission received the following exempt wholesale generator filings:

Docket Numbers: EG22-214-000.

Applicants: CPV Three Rivers, LLC.

Description: CPV Three Rivers, LLC submits Notice of Self-Certification of Exempt Wholesale Generator Status.

Filed Date: 9/1/22.

Accession Number: 20220901-5313.

Comment Date: 5 p.m. ET 9/22/22.

Take notice that the Commission received the following electric rate filings:

Docket Numbers: ER21-2968-003.

Applicants: Upper Michigan Energy Resources Corporation.

Description: Compliance filing: Settlement Compliance Filing to be effective 12/1/2021.

Filed Date: 9/6/22.

Accession Number: 20220906-5022.

Comment Date: 5 p.m. ET 9/27/22.

Docket Numbers: ER22-799-003.

Applicants: Lancaster Area Battery Storage, LLC.

Description: Supplement to July 26, 2022 Notice of Change in Status of Lancaster Area Battery Storage, LLC.

Filed Date: 9/6/22.

Accession Number: 20220906-5101.

Comment Date: 5 p.m. ET 9/27/22.

Docket Numbers: ER22-2790-000.

Applicants: Tri-State Generation and Transmission Association, Inc.

Description: § 205(d) Rate Filing: Amendment to Rate Schedule FERC No. 8 to be effective 11/7/2022.

Filed Date: 9/6/22.

Accession Number: 20220906-5072.

Comment Date: 5 p.m. ET 9/27/22.

Docket Numbers: ER22-2791-000.

Applicants: PJM Interconnection, L.L.C.

Description: § 205(d) Rate Filing: ISA, SA No. 6590; Queue No. AC1-171 to be effective 8/5/2022.

Filed Date: 9/6/22.

Accession Number: 20220906-5079.

Comment Date: 5 p.m. ET 9/27/22.

Docket Numbers: ER22-2792-000.

Applicants: Tri-State Generation and Transmission Association, Inc.

Description: § 205(d) Rate Filing: Certificate of Concurrence for PSCo Subentity Reserve Sharing Agreement to be effective 8/1/2022.

Filed Date: 9/6/22.

Accession Number: 20220906-5085.

Comment Date: 5 p.m. ET 9/27/22.

Docket Numbers: ER22-2793-000.

Applicants: Duke Energy Indiana, LLC.

Description: § 205(d) Rate Filing: DEI-Hoosier Reimbursement Agmt RS No. 272 to be effective 9/7/2022.

Filed Date: 9/6/22.

Accession Number: 20220906-5102.

Comment Date: 5 p.m. ET 9/27/22.

Docket Numbers: ER22-2794-000.

Applicants: PJM Interconnection, L.L.C.

Description: § 205(d) Rate Filing: Original NSA, SA No. 6592; Queue No. U3-029 and U3-030 to be effective 8/23/2022.

Filed Date: 9/6/22.

Accession Number: 20220906-5108.

Comment Date: 5 p.m. ET 9/27/22.

Take notice that the Commission received the following electric securities filings:

Docket Numbers: ES22-54-000.

Applicants: Duquesne Light Company.

Description: Application Under Section 204 of the Federal Power Act for Authorization to Issue Securities of Duquesne Light Company.

Filed Date: 9/2/22.

Accession Number: 20220902-5151.

Comment Date: 5 p.m. ET 9/9/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 6, 2022.
Debbie-Anne A. Reese,
Deputy Secretary.

[FR Doc. 2022-19598 Filed 9-9-22; 8:45 am]

BILLING CODE 6717-01-P